ENVIRONMENTAL PROTECTION AGENCY

[FRL-7446-7]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at (202) 566-1672, or email at auby.susan@epa.gov. and please refer to the appropriate EPA Information Collection Request (ICR) Number.

SUPPLEMENTARY INFORMATION:

OMB Responses to Agency Clearance Requests

OMB Approvals

EPA ICR No. 2085.01; 2003 Drinking Water Infrastructure Needs Survey; was approved 11/27/2002; OMB No. 2040-0251; expires 11/30/2005.

EPA ICR No. 1426.06; EPA Worker Protection Standard for Hazardous Waste Operations and Emergency Response in 40 CFR 311.1 and 311.2; was approved 12/20/2002; OMB No. 2050-0105; expires 12/31/2005.

EPA ICR No. 1131.07; NSPS for Glass Manufacturing Plants in 40 CFR part 60, subpart CC, was approved 12/30/2002; OMB No. 2060-0054; expires 12/31/2005.

EPA ICR No. 1031.07; Recordkeeping and Reporting Requirements for Allegations of Significant Adverse Reactions to Human Health or the Environment (TSCA section 8(c)) in 40 CFR part 717; was approved 12/30/2002; OMB No. 2070-0017; expires 12/31/2005.

EPA ICR No. 0938.09; General Administrative Requirements for Assistance Programs in 40 CFR parts 30 and 31; was approved 12/30/2002; OMB No. 2030-0020; expires 12/31/2005.

EPA ICR No. 0746.05; NSPS for Calciners and Dryers in Mineral Industries in 40 CFR part 60, subpart UUU; was approved 12/30/2002; OMB No. 2060-0251; expires 12/31/2005.

EPA ICR No. 1910.02; Synopses of Proposed Contract Actions and Market Research Activity; was approved 12/30/2002; OMB No. 2030-0039; expires 12/31/2005.

EPA ICR No. 1884.02; TSCA Inventory Update Rule Amendment in 40 CFR part 710; was approved 12/31/2002; OMB No. 2070-0162; expires 12/31/2005.

EPA ICR No. 0660.08; NSPS for Metal Coil Surface Coating in 40 CFR part 60, subpart TT; was approved 12/30/2002; OMB No. 2060-0107; expires 12/31/2005.

EPA ICR No. 1867.02; Voluntary Aluminum Industrial Partnership (VAIP); was approved 12/30/2002; OMB No. 2060-0411; expires 12/31/2005.

EPA ICR No. 0983.07; NSPS Equipment Leaks of VOC in Petroleum Refineries in 40 CFR part 60, subpart GGG; was approved 12/30/2002; OMB No. 2060-0067; expires 12/31/2005.

EPA ICR No. 1557.05; NSPS for Municipal Solid Waste Landfills; in 40 CFR part 60, subpart WWW; was approved 12/30/2002; OMB No. 2060-0220; expires 12/31/2005.

EPA ICR No. 0664.07; NSPS Bulk Gasoline Terminals in 40 CFR part 60, subpart XX; was approved 12/30/2002; OMB No. 2060-0006; expires 12/31/2005.

EPA ICR No. 1188.07; TSCA section 5(a)(2) Significant New Use Rules for Existing Chemicals in 40 CFR part 721; was approved on 01/13/2003; OMB No. 2070-0038; expires on 01/31/2006.

Short Term Extensions

EPA ICR No. 1838.01; Industry Detailed Questionnaire: Phase II Cooling Water Intake Structures; OMB No. 2040-0213; on 12/17/2002 OMB extended the expiration date through 03/31/2003.

EPA ICR No. 1912.01; Information Collection Request: National Primary Drinking Water Regulation for Lead and Copper (Final Rule); OMB No. 2040-0210; on 12/19/2002 OMB extended the expiration date through 03/31/2003.

EPA ICR No. 0794.09; Notification of Substantial Risk of Injury to Health and the Environment under TSCA section 8(e); OMB No. 2070-0046; on 01/06/2003 OMB extended the expiration date through 04/30/2003.

EPA ICR No. 0795.10; Notification of Chemical Exports—TSCA Section 12(b); OMB No. 2070-0030; on 01/06/2003 OMB extended the expiration date through 04/30/2003.

Comments Filed

EPA ICR No. 2080.01; Motor Vehicle and Engine Compliance Program Fees (Proposed Rule); on 12/30/2002 OMB filed a comment.

EPA ICR No. 2079.01; NESHAP: Metal Can Surface Coating (Proposed Rule); on 01/06/2003 OMB filed a comment.

EPA ICR No. 2050.01; NESHAP for Taconite Iron Ore Processing Industry (Proposed Rule); on 01/06/2003 OMB filed a comment.

Dated: January 23, 2003.
Oscar Morales,
Director, Collection Strategies Division.

[FR Doc. 03-2430 Filed 1-31-03; 8:45 am]

BILLING CODE 6560-50-P